DEPARTMENT OF THE INTERIOR

National Park Service

Fish and Wildlife Service

[PPWONRADE2, PMP00EI05.YP0000]

Notice of Intent To Prepare North Cascades Ecosystem Grizzly Bear Restoration Plan/Environmental Impact Statement, Washington

AGENCIES: National Park Service and U.S. Fish and Wildlife Service, Interior.

ACTION: Notice of intent.

SUMMARY: The National Park Service (NPS) and the U.S. Fish and Wildlife Service (FWS) are jointly preparing an environmental impact statement (EIS) for the North Cascades Ecosystem Grizzly Bear Restoration Plan to determine how to restore the grizzly bear to the North Cascades ecosystem (NCE), a portion of its historical range. As part of the planning and EIS process, the NPS and the FWS will evaluate various approaches for the restoration of a grizzly bear population to the NCE. Action is needed to restore grizzly bears to the NCE because they are functionally extirpated from the ecosystem, and restoration there will contribute to overall grizzly bear recovery.

DATES: All comments must be received or postmarked by December 14, 2022.

ADDRESSES: Comment submission: To submit comments for consideration in development of the EIS, you may use any one of the following methods:

• Agency website: https://parkplanning.nps.gov/NCEGrizzly.

• U.S. mail: Office of the Superintendent, 810 State Route 20, Sedro-Woolley, WA 98284; or Washington Fish and Wildlife Office, 500 Desmond Dr. SE, Lacey, WA 98503.

Document availability: Information regarding the public scoping process for the EIS and virtual public meetings is available for public review online at https://parkplanning.nps.gov/NCEGrizzly; or, by appointment in the Office of the Superintendent, 810 State Route 20, Sedro-Woolley, WA 98284 (360-854-7200, telephone); and in the Washington Fish and Wildlife Office, 500 Desmond Dr. SE, Lacey, WA 98503 (360-753-9440, telephone).

FOR FURTHER INFORMATION CONTACT: Denise Shultz, Public Information Officer, North Cascades National Park Service Complex, 810 State Route 20, Sedro-Woolley, WA 98284 (360-854-7200; nce_grizzly@nps.gov), or Andrew LaValle, Public Affairs Specialist, Washington Fish and Wildlife Office, 500 Desmond Dr. SE, Lacey, WA 98503 (nce_grizzly@nps.gov).

SUPPLEMENTARY INFORMATION:

Purpose and Need

Pursuant to the National Environmental Policy Act of 1969 (NEPA; 42 U.S.C. 4321 et seq.; see 42 U.S.C. 4332(2)(C)), the NPS and the FWS are jointly preparing an NCE Grizzly Bear Restoration Plan and EIS. The purpose of the Grizzly Bear Restoration Plan is to determine how to restore the grizzly bear to the NCE, a portion of its historical range.

Action is needed at this time to:

• Restore grizzly bears to the NCE because they are functionally extirpated from the ecosystem.

• Contribute to the restoration of biodiversity of the ecosystem for the benefit and enjoyment of present and future generations of people.

• Enhance the probability of long-term survival of grizzly bears in the NCE and thereby contribute to overall grizzly bear recovery.

• Support the recovery of the grizzly bear to the point where it can be removed from the Federal List of Endangered and Threatened Wildlife.

Preliminary Proposed Action and Alternatives

As part of the planning and EIS process, the NPS and FWS will evaluate various approaches for the restoration of a grizzly bear population to the NCE. Preliminary alternatives to be considered in the EIS are described in greater detail below.

Actions Common to All Action Alternatives

All the action alternatives would seek to restore a self-sustaining population through the capture and release of grizzly bears into the NCE. Each of the action alternatives would involve several of the same elements, including a similar approach for the capture, release, and monitoring of grizzly bears; enhanced public education and outreach; guidelines for management actions to respond to human—grizzly bear conflicts; improved sanitation on public lands; additional releases of grizzly bears to replace individuals lost to mortality; access management; and habitat management.

No Action Alternative—Existing Management

Under the no action alternative, existing management practices would be followed, and no new management actions would be implemented. Existing management actions would continue to be focused on improved sanitation, poaching control, motorized access management, outreach and educational programs to provide information about grizzly bears and grizzly bear recovery to the public, and research and monitoring to determine grizzly bear presence, distribution, habitat, and home ranges.

Proposed Action—Restoration as an Experimental Population Under the ESA

Under the proposed action, the NPS and the FWS would capture bears from source populations in either interior British Columbia or the Northern Continental Divide Ecosystem. Approximately 3 to 7 captured grizzly bears would be released into the NCE each year over roughly 5 to 10 years, with a goal of establishing an initial population of 25 grizzly bears. After the initial population of 25 grizzly bears has been reached, an adaptive management phase would allow additional bears to be released into the ecosystem over time to address mortality, population and demographic trends, genetic limitations, and distribution or to adjust the population's sex ratio to improve reproductive success. The proposed action is expected to result in a population of approximately 200 grizzly bears within 60 to 100 years.

The proposed action would also include a proposal to designate the reintroduced grizzly bears in the NCE as an experimental population under section 10(j) of the U.S. Endangered Species Act (ESA; 16 U.S.C. 1531 et seq.). An experimental population is a group of reintroduced plants or animals that is geographically isolated from other populations of the species. Experimental populations must contribute to a species' recovery and may include special protective regulations under the ESA. Designation of grizzly bears released into the NCE as an experimental population would allow the FWS to specify protective regulations to provide greater management flexibility (e.g., relocation or removal) in the event of human—grizzly bear conflict situations.

Other Potential Alternatives

Additional alternatives may be analyzed in the EIS. Potential additional alternatives include restoring the NCE grizzly population without an experimental population designation, as well as varying the number and frequency of grizzly bear releases into the NCE to achieve the restoration goal in a shorter or longer time period.

Summary of Expected Impacts

The proposed action is expected to result in restoration of a grizzly bear population in the NCE. Expected impacts from implementation of grizzly bear restoration actions include potential environmental impacts on wildlife and fish (including grizzly bears), wilderness, visitor use and recreational experience, public and employee safety, socioeconomics, and ethnographic resources.

Anticipated Permits and Authorizations

The NPS and the FWS will comply with the ESA for potential impacts to threatened and endangered species. If a decision is made to pursue rulemaking, the FWS will lead the experimental population rulemaking process. The NPS and the FWS will use and coordinate the NEPA public scoping process to help fulfill the public involvement requirements under the National Historic Preservation Act (54 U.S.C. 306108) as provided in title 36 of the Code of Federal Regulations (CFR) at § 800.2(d)(3). The information about historic and cultural resources within the area potentially affected by the alternatives will assist the NPS and the FWS in identifying and evaluating impacts to such resources, and consulting with affected Indian Tribes and the State Historic Preservation Officer(s).

Schedule for the Decision-Making Process

• Agencies have 2 years from the date of the issuance of the notice of intent to the date a record of decision is signed to complete an EIS (40 CFR 1501.10).

• The NPS and the FWS expect to make the draft EIS available to the public in the summer of 2023.

• After public review and comment, the NPS and the FWS expect to make the final EIS available to the public in the spring of 2024.

• The NPS and the FWS would issue a record of decision after the final EIS in accordance with the applicable timeframes under 40 CFR 1506.11.

Public Scoping Process

This notice of intent initiates the scoping process, which guides the development of the EIS. The NPS and the FWS will host virtual public scoping meetings. During the virtual public scoping meetings, the NPS and the FWS will present information pertinent to the EIS and allow the public to ask questions regarding the scope of issues and alternatives that should be considered when preparing the EIS. While the NPS and the FWS will not solicit oral comments at these virtual public meetings, written comments may be submitted at any time during the scoping process. See ADDRESSES, above, and Submitting Comments, below, for more information. Details regarding the exact dates and times of these virtual public scoping meetings will be announced on the project website (https://parkplanning.nps.gov/NCEGrizzly) and through local and regional media. The virtual public scoping meetings will also be announced through email notification to individuals and organizations, press release, and social media.

The NPS and FWS will also seek to engage directly with Tribes. Consistent with Executive Order 13175, the NPS and FWS welcome Tribal input and are available to engage in meaningful government-to-government consultation with Tribes at their request.

The NPS and the FWS previously proposed to restore grizzly bears to the NCE and produced a draft EIS for public review and comment in 2017 (82 FR 4416, January 13, 2017). Public comments that were provided during that prior EIS process will also inform this new EIS and the development of alternatives.

Reasonable Accommodations

Persons needing reasonable accommodations to attend and participate in the virtual public scoping meetings should contact Denise Shultz (NPS) or Andrew LaValle (FWS) using one of the methods listed in FOR FURTHER INFORMATION CONTACT as soon as possible. To allow sufficient time to process requests, please make contact no later than 1 week before the desired virtual public meeting.

Request for Identification of Potential Alternatives, Information, and Analyses Relevant to the Proposed Action

The NPS and the FWS request comments concerning the scope of the analysis, identification of potential alternatives, and information and analyses relevant to the planning process. The NPS and the FWS will consider these comments in developing the draft EIS. Specifically, the NPS and the FWS are seeking information on:

• Potential effects that the alternatives could have on other aspects of the human environment, including ecological, aesthetic, historic, cultural, economic, social, environmental justice, or health effects;

• Other possible reasonable alternatives that the NPS and the FWS should consider, including additional or alternative avoidance, minimization, and mitigation measures;

• Approaches for managing reintroduced grizzly bears, particularly in regard to potential conflicts with human activities; and

• Other information relevant to grizzly bear restoration and its impacts on the human environment.

Submitting Comments

If you wish to comment, you may submit comments by one of the methods listed above in ADDRESSES. Comments will not be accepted by fax, email, or by any method other than those specified above. Bulk comments in any format (hard copy or electronic) submitted on behalf of others will not be accepted. Comments must be provided by the close of the comment period and should clearly articulate the submitter's concerns and contentions.

Public Availability of Comments

Before including your address, phone number, email address, or other personal identifying information in your comment, you should be aware that your entire comment—including your personal identifying information—may be made publicly available at any time. While you can ask us in your comment to withhold your personal identifying information from public review, we cannot guarantee that we will be able to do so. Comments submitted anonymously will be accepted and considered.

Decision Makers

The decision makers are the NPS Regional Director for Interior Regions 8, 9, 10, and 12 and the FWS Regional Director for the Pacific Region.

Frank Lands,
Regional Director, Interior Regions 8, 9, 10, & 12, National Park Service.
Nanette Seto,
Acting Regional Director, Pacific Region, U.S. Fish and Wildlife Service.

[FR Doc. 2022-24717 Filed 11-10-22; 8:45 am]

BILLING CODE 4312-52-P